ENVIRONMENTAL PROTECTION AGENCY

[EPA-HQ-OPPT-2015-0507; FRL-9942-09]

Certain New Chemicals; Receipt and Status Information for December 2015

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from December 1, 2015 to December 31, 2015.

DATES: Comments identified by the specific case number provided in this document, must be received on or before March 14, 2016.

ADDRESSES: Submit your comments, identified by docket identification (ID) number EPA-HQ-OPPT-2015-0507, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from December 1, 2015 to December 31, 2015, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 46 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From December 1, 2015 to December 31, 2015
Case No. | Date received | Projected end date for EPA review | Manufacturer/importer | Use(s) | Chemical identity
P-16-0015 | 12/15/2015 | 3/14/2016 | CBI | (S) New substance is a polymer used as a hydropholbic coating for metal oxide particular in industrial formulations used a functional surface treatment on metal oxide which is used in cosmetic and sunscreen formulations | (G) Dimethicone crosspolymer and Silica.
P-16-0054 | 12/10/2015 | 3/9/2016 | Blaser Swisslube, Inc | (S) Metal working fluid component | (S) Phosphoric acid, mixed 2-hexlydecyl and 2-hexyldodecyl and 2-octyldecyl and 2-octyldodecyl mono- and diesters.
P-16-0108 | 12/2/2015 | 3/1/2016 | CBI | (G) Use in uv/eb adhesives and coatings | (G) Dimethyl ester, polymer with 1,6-hexanediol, 5-iscocyanato-1-(isocyanatomethyl)-1,3,3-trimethylcyclohexane and 2-oxepanone, 2-hydroxyethyl acrylate-blocked.
P-16-0109 | 12/2/2015 | 3/1/2016 | CBI | (G) Raw material of polyurethane | (G) Heteropolycycle hydrogen carbonate, polycondensate with alkyl hydrogen carbonate.
P-16-0110 | 12/2/2015 | 3/1/2016 | CBI | (G) Raw material of polyurethane | (G) Heteropolycycle hydrogen carbonate, polycondensate with alkyl hydrogen carbonate.
P-16-0111 | 12/3/2015 | 3/2/2016 | Allnex USA, Inc | (S) Electro-deposition primer | (G) Fatty acids, reaction products with alkylamine, polymers with substituted carbomonocycle, substituted alkylamines, heteromonocycle and substituted alkanoate, acetates (salts).
P-16-0112 | 12/3/2015 | 3/2/2016 | Allnex USA, Inc | (S) Isolated intermediate for electro deposition primer | (G) Substituted heteromonocycle, polymer with substituted carbomonocycle and alkyl (hydroxyalkyl)alkanediol, alkoxyalkanol-blocked.
P-16-0115 | 12/4/2015 | 3/3/2016 | CBI | (S) Component of flexible foam | (G) 2-Propanediol, polymer with 2-ethyloxirane, oxirane and cycloaliphatic anhydride, polymer with 2,2′-[(1-methylethylidene)bis(4,1-phenyleneoxymethylene)]bis[oxirane].
P-16-0117 | 12/5/2015 | 3/4/2016 | CBI | (S) Bleach for whitening, deodorizing and/or cleaning | (S) Magnesium hydroxide hypochlorite oxide.
P-16-0118 | 12/8/2015 | 3/7/2016 | CBI | (G) Additives for lubricating oil | (G) Akyl methacrylates copolymer.
P-16-0119 | 12/14/2015 | 3/13/2016 | CBI | (G) Intermediate | (G) Chlorofluorocarbon.
P-16-0120 | 12/8/2015 | 3/7/2016 | The Shepherd Color Company | (G) Pigment for anti-corrosive paints | (S) Aluminum vanadium zinc hydroxide oxide.
P-16-0121 | 12/8/2015 | 3/7/2016 | CBI | (S) Water reducing agent for use in concrete | (G) Acrylic acid polymer with polyethylene glycol.
P-16-0122 | 12/8/2015 | 3/7/2016 | CBI | (G) Intermediate | (G) Chlorofluorocarbon.
P-16-0123 | 12/8/2015 | 3/7/2016 | Infineum USA, L.P | (G) Oil additive | (G) Formaldehyde polymers with substituted-carbomonocycle, (tetraalkenyl) derivs.
P-16-0124 | 12/9/2015 | 3/8/2016 | CBI | (G) Resin for coatings | (G) Substituted alkanoic acid-, salts with substituted alkanol-blocked haloalkyl heteromonocycle substituted carbomonocycle polymer alkyl alkanoate-substituted carbomonocycle-trialkylcarbomonocycle-alkyl imine reaction products.
P-16-0125 | 12/9/2015 | 3/8/2016 | CBI | (G) Resin for coatings | (G) Alkoxy alkyl substituted alkanoic acid, ion(1-), salts with substituted carbomonocycle substituted heteromonocyclic polymer ester with substituted carbomonocycle alkyl ester-alkyl substituted alkanol reaction products.
P-16-0126 | 12/9/2015 | 3/8/2016 | CBI | (G) Resin for coatings | (G) Substituted carbomonocycle, polymer with substituted heteromonocycle, reaction products with substituted amine, substituted amine and substituted alkanol, alkylalkanoates substituted carbomonocycle.
P-16-0127 | 12/10/2015 | 3/9/2016 | CBI | (S) Flotation of silica from iron ore and selected nonferrous minerals | (G) dialkyl ether ammonium salts.
P-16-0128 | 12/10/2015 | 3/9/2016 | Cardolite Corporation | (S) Epoxy curing agent for light colored coatings | (G) Fatty acids, c18-unsatd.,dimers,polymers with cashew nutshell liq., glycidyl ethers and polyethylenepolyamines.
P-16-0129 | 12/10/2015 | 3/9/2016 | Zeon Chemicals, L.P | (S) Resin for hot melt adhesives | (G) Hydrocarbon Resin, Hydrogenated.
P-16-0131 | 12/14/2015 | 3/13/2016 | CBI | (G) Dye | (G) Polyethoxylated monoazo.
P-16-0132 | 12/14/2015 | 3/13/2016 | CBI | (S) Emulsifier and lubricant for use in metal working fluids | (G) Alkyoxylated fatty alcohol phosphate ester.
P-16-0133 | 12/14/2015 | 3/13/2016 | CBI | (S) Raw material used to impart high heat resistance to heat resistant plastics used in the manufacture of LED reflectors used in reflective plates | (S) 1,4-Benzenedicarboxylic acid, polymer with 2-methyl-1,8-octanediamine and 1,9-nonanediamine, reaction products with benzoic acid.
P-16-0134 | 12/15/2015 | 3/14/2016 | CBI | (G) Cured coatings and inks | (G) Acrylic oligomer.
P-16-0135 | 12/16/2015 | 3/15/2016 | CBI | (G) Pigment wetting and dispersing additive | (G) Polyesters, fatty alkyl amides terminated.
P-16-0136 | 12/15/2015 | 3/14/2016 | CBI | (G) Oil production | (G) Dialkylamino alkylamide inner salt.
P-16-0139 | 12/15/2015 | 3/14/2016 | CBI | (G) Oil production | (G) Dialkylamino alkylamide inner salt, salts.
P-16-0140 | 12/15/2015 | 3/14/2016 | CBI | (G) Oil production | (G) Dialkylamino alkylamide inner salt, salts.
P-16-0141 | 12/22/2015 | 3/21/2016 | CBI | (G) Lubricant additive | (G) Polyalkyl methacrylate copolymer.
P-16-0142 | 12/16/2015 | 3/15/2016 | CBI | (G) Polymer for coatings | (G) Amine salted polyacrylate.
P-16-0143 | 12/16/2015 | 3/15/2016 | CBI | (G) Chemical intermediate | (G) Haloalkylfurancarboxaldehyde.
P-16-0144 | 12/16/2015 | 3/15/2016 | H. B. Fuller Company | (G) Industrial adhesive | (G) Urethane acrylate.
P-16-0145 | 12/16/2015 | 3/15/2016 | H. B. Fuller Company | (G) Urethane acrylate | (G) Urethane acrylate.
P-16-0146 | 12/16/2015 | 3/15/2016 | H. B. Fuller Company | (G) Industrial adhesive | (G) Urethane acrylate.
P-16-0147 | 12/16/2015 | 3/15/2016 | H. B. Fuller Company | (G) Industrial adhesive | (G) Urethane acrylate.
P-16-0148 | 12/16/2015 | 3/15/2016 | CBI | (G) Oil production | (G) Dialkylamino alkylamide inner salt.
P-16-0149 | 12/17/2015 | 3/16/2016 | Cadence Chemical Corporation | (S) Paints for wood, metal and plastic | (G) 2-alkenoic acid, alkyl ester, polymer with ethenyl benzene, alkyl 2-alky alkenoate and alkene carboxylic acid.
P-16-0150 | 12/18/2015 | 3/17/2016 | CBI | (G) Intermediate | (G) Chlorofluorocarbon.
P-16-0151 | 12/18/2015 | 3/17/2016 | CBI | (G) Intermediate | (G) Perfluoropolyether halide.
P-16-0152 | 12/18/2015 | 3/17/2016 | CBI | (G) Intermediate | (G) Perfluoropolyether aryl.
P-16-0153 | 12/18/2015 | 3/17/2016 | CBI | (G) Lubricant additive | (G) Substituted aryl perfluoropolyether.
P-16-0154 | 12/18/2015 | 3/17/2016 | CBI | (G) Lubricant additive | (G) Sulfonated perfluoropolyether aromatic transition metal salt.
P-16-0155 | 12/18/2015 | 3/17/2016 | CBI | (G) Lubricant additive | (G) Sulfonated perfluoropolyether aryl alkali metal salt.
P-16-0156 | 12/18/2015 | 3/17/2016 | CBI | (G) Lubricant additive | (G) Sulfonated perfluoropolyether aryl alkali metal salt.
P-16-0160 | 12/30/2015 | 3/29/2016 | CBI | (G) Curing agent and curing agent precursor, adhesion promoter and adhesion promoter precursor | (G) Polyethylenepolyamines.

For the 4 TMEs received by EPA during this period, Table 2 provides the following information (to the extent that such information is not claimed as CBI): The EPA case number assigned to the TME, the date the TME was received by EPA, the projected end date for EPA's review of the TME, the submitting manufacturer/importer, the potential uses identified by the manufacturer/importer in the TME, and the chemical identity.

Table 2—TMEs Received From December 1, 2015 to December 31, 2015
Case No. | Date received | Projected end date for EPA review | Manufacturer/Importer | Use(s) | Chemical identity
T-16-0013 | 12/15/2015 | 1/29/2016 | CBI | (G) Oil production | (G) Dialkylamino alkylamide inner salt.
T-16-0014 | 12/15/2015 | 1/29/2016 | CBI | (G) Oil production | (G) Dialkylamino alkylamide inner salt, salts.
T-16-0015 | 12/15/2015 | 1/29/2016 | CBI | (G) Oil production | (G) Dialkylamino alkylamide inner salt, salts.
T-16-0016 | 12/16/2015 | 1/30/2016 | CBI | (G) Oil production | (G) Dialkylamino alkylamide inner salt.

For the 38 NOCs received by EPA during this period, Table 3 provides the following information (to the extent that such information is not claimed as CBI): The EPA case number assigned to the NOC; the date the NOC was received by EPA; the projected date of commencement provided by the submitter in the NOC; and the chemical identity.

Table 3—NOCs Received From December 1, 2015 to December 31, 2015
Case No. | Date received | Projected date of commencement | Chemical identity
J-15-0034 | 12/21/2015 | 12/18/2015 | (G) Saccharomyces cerevisiae modified.
P-11-0543 | 12/1/2015 | 11/3/2015 | (G) Polyfluorinated alkyl quanternary ammonium chloride.
P-12-0118 | 12/16/2015 | 12/2/2015 | (G) Substituted pyridinium salt.
P-12-0549 | 12/10/2015 | 11/11/2015 | (G) Modified polyester.
P-13-0558 | 12/3/2015 | 11/28/2015 | (G) Alkylene imine homopolymer, alkyl derivatives.
P-13-0853 | 12/15/2015 | 10/28/2015 | (G) Inorganic acid, triphenyl ester, polymer with mixed diols and alcohols.
P-14-0492 | 12/1/2015 | 10/18/2015 | (S) Ethanol, 2,2′,2″-nitrilotris-, compd. with alpha, alpha′—[[[4-[2-(4-sulfo-1-naphthalenyl) diazenyl] phenyl] imino] di-2,1-ethanediyl]bis[omega-hydroxypoly(oxy-1,2-ethanediyl)] (1:1).
P-14-0643 | 12/16/2015 | 11/16/2015 | (G) Titanium oxide derivative.
P-14-0838 | 12/10/2015 | 12/7/2015 | (G) Modified copolymer of buta-1,3-diene and styrene.
P-15-0065 | 12/9/2015 | 12/5/2015 | (G) Mixture of aminopropyl-terminated N-methylated polyalkylenepolyamines.
P-15-0177 | 12/16/2015 | 12/4/2015 | (G) Phenol, 2,2′-[1,2-disubstituted-1,2-ethanediyl]bis(iminomethylene)bis[substituted.
P-15-0326 | 12/21/2015 | 10/19/2015 | (G) Polyfluorohydrocarbon.
P-15-0341 | 12/22/2015 | 12/15/2015 | (G) Propenoic acid alkyl ester(s), telomer with alkanethiol, 2-methyl-2-propenoic acid and 2-hydroxyethyl 2-propenoate.
P-15-0349 | 12/3/2015 | 11/23/2015 | (G) Carbonic acid, diethyl ester, polymer with 1,6-hexanediol, 5-isocyanato-1-(isocyanatomethyl)-1,3,3- trimethylcyclohexane 2-hydroxyethyl acrylate-blocked.
P-15-0355 | 12/8/2015 | 11/21/2015 | (S) Hexane, 1,6-diisocyanato-, homopolymer, di-et malonate-blocked.
P-15-0455 | 12/15/2015 | 12/4/2015 | (S) 1,4-Cyclohexanedicarboxylic acid, 1,4-dimethyl ester, polymer with 1,4-cyclohexanedimethanol.
P-15-0468 | 12/16/2015 | 12/15/2015 | (G) Polycyclecarboxylic acid, hydroxy-(substituted phenyl)diazenyl, metal salt.
P-15-0544 | 12/1/2015 | 11/25/2015 | (G) Trialkyl cycloalkylammonium hydroxide.
P-15-0581 | 12/10/2015 | 11/23/2015 | (G) L-amino acid, homopolymer, carboxylate.
P-15-0587 | 12/14/2015 | 12/2/2015 | (G) vegetable oil polymer with 1,1′-methylenebis[isocyantobenzene], oxepanone and trimethylolpropane.
P-15-0596 | 12/3/2015 | 11/16/2015 | (G) Methyl alkaryl methyl hydrogen cyclosiloxanes.
P-15-0602 | 12/9/2015 | 11/12/2015 | (G) Copolymer of tetrafluoroethene and perfluorosulfonylvinylether.
P-15-0606 | 12/2/2015 | 11/24/2015 | (S) Alkenes, C18-22, mixed with polyethylene, oxidized, hydrolyzed, distn. residues, from C20-22 alcs. manufacturer.
P-15-0608 | 12/2/2015 | 11/26/2015 | (G) Modified rosin polyol ester.
P-15-0612 | 12/23/2015 | 12/22/2015 | (S) Sulfur thulium ytterbium yttrium oxide.
P-15-0613 | 12/23/2015 | 12/22/2015 | (S) Gadolinium sulfur ytterbium yttrium oxide, erbium- and thulium-doped.
P-15-0614 | 12/23/2015 | 12/22/2015 | (S) Neodymium sulfur yttrium oxide.
P-15-0615 | 12/23/2015 | 12/22/2015 | (S) Erbium gadolinium neodymium sulfur ytterbium yttrium oxide.
P-15-0616 | 12/23/2015 | 12/22/2015 | (S) Erbium gadolinium sulfur ytterbium yttrium oxide.
P-15-0618 | 12/23/2015 | 12/22/2015 | (S) Erbium gadolinium sulfur ytterbium oxide.
P-15-0624 | 12/2/2015 | 11/22/2015 | (G) Modified urethane polymer.
P-15-0635 | 12/29/2015 | 12/13/2015 | (G) Polymer of an aromatic olefin and one or more substituted aromatic olefins.
P-15-0648 | 12/11/2015 | 12/10/2015 | (G) Alkylamino alcohol.
P-15-0657 | 12/9/2015 | 11/22/2015 | (G) Allyl triazine oligomer.
P-15-0684 | 12/7/2015 | 12/3/2015 | (G) Substituted alkenoic acid, alkyl ester, telomer with alkanethiol and oxiranylalkyl alkyl-alkenoatenoate.
P-15-0687 | 12/10/2015 | 12/8/2015 | (G) Polyester adduct.
P-15-0696 | 12/14/2015 | 12/7/2015 | (G) Urethane acrylate.
P-15-0712 | 12/14/2015 | 12/11/2015 | (S) Cyclopropanemethanol, 2-(1,4-dimethyl-3-penten-1-yl)-1-methyl-.

Authority: 15 U.S.C. 2601 et seq.

Dated: February 5, 2016.
Pamela Myrick,
Acting, Information Management Division, Office of Pollution Prevention and Toxics.

[FR Doc. 2016-02830 Filed 2-10-16; 8:45 am]

BILLING CODE 6560-50-P